DEPARTMENT OF LABOR

Employment and Training Administration

[TA-W-75,023]

Chrysler Group, LLC, Power Train Division, Mack Avenue Engine Plants #1 And #2, Including On-Site Leased Workers from Caravan Knight, Detroit, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 6, 2011, applicable to workers of Chrysler Group, LLC, Power Train Division, Mack Avenue Engine Plant #1, including on-site leased workers of Caravan Knight, Detroit, Michigan. The workers are engaged in the production of automotive engines. The notice was published in the Federal Register on April 22, 2011 (76 FR 22731). The notice was amended on April 12, 2011 to correct the impact date. The notice was published in the Federal Register on April 22, 2011 (76 FR 22729).

At the request of a company official, the Department reviewed the certification for workers of the subject firm. New findings show that worker separations occurred during the relevant time period at the Mack Avenue Engine Plant #2, Detroit, Michigan location of Chrysler Group, LLC, Power Train Division. Together, the Mack Avenue Engine Plants #1 and #2 are part of an integrated production process for the Jeep Commander and Jeep Grand Cherokee at the North Jefferson Assembly Plant and are also adversely affected by the loss of business that was experienced at the North Jefferson Assembly plant affiliate of the subject firm.

Accordingly, the Department is amending the certification to include workers of the Detroit, Michigan location of Mach Avenue Engine Plant #2 of Chrysler Group, LLC, Power Train Division.

The intent of the Department's certification is to include all workers of the subject firm who were adversely affected by a shift of automotive engines to Saltillo, Mexico.

The amended notice applicable to TA-W-75,023 is hereby issued as follows:

All workers of Chrysler Group, LLC, Power Train Division, Mack Avenue Engine Plant #1 and #2, including on-site leased workers of Caravan Knight, Detroit, Michigan, who became totally or partially separated from employment on or after December 5, 2010, through April 6, 2013, and all workers in the group threatened with total or partial separation from employment on date of certification through two years from the date of certification, are eligible to apply for adjustment assistance under Chapter 2 of Title II of the Trade Act of 1974, as amended.

Signed in Washington, DC, this 27th day of April 2011.
Del Min Amy Chen,
Certifying Officer, Office of Trade Adjustment Assistance.

[FR Doc. 2011-11479 Filed 5-10-11; 8:45 am]

BILLING CODE 4510-FN-P